ENVIRONMENTAL PROTECTION AGENCY

[OPP-2004-0210; FRL-7372-2]

Benfluralin; Availability of Reregistration Eligibility Decision Document

AGENCY: Environmental Protection Agency (EPA).

ACTION: Notice.

SUMMARY: This notice announces availability of EPA's Reregistration Eligibility Decision (RED) document for the pesticide active ingredient Benfluralin. Benfluralin is a pre-emergent dinitroaniline herbicide used to control weeds in turf and ornamental plants, lettuce, alfalfa, clover, birdsfoot trefoil, nonbearing fruit and nut trees, nonbearing berries, and nonbearing vineyards. The Agency has completed its assessment of the occupational, residential, and ecological risk associated with the use of pesticide products containing the active ingredient benfluralin. Based on a review of these data and on public comments on the Agency's assessments for the active ingredient benfluralin, the Agency has sufficient information on the human health and ecological effects of benfluralin to make decisions as part of the tolerance reassessment process under the Federal Food, Drug, and Cosmetic Act (FFDCA) and reregistration process under the Federal Insecticide, Fungicide, and Rodenticide Act (FIFRA), as amended by the Food Quality Protection Act (FQPA). The Agency has determined that benfluralin containing products are eligible for reregistration provided that: Current data gaps and confirmatory data needs are addressed; the risk mitigation measures outlined in the RED are adopted; and label amendments are made to reflect these measures.

FOR FURTHER INFORMATION CONTACT: Katie Hall, Special Review and Reregistration Division (7508C), Office of Pesticide Programs, Environmental Protection Agency, 1200 Pennsylvania Ave., NW., Washington, DC 20460-0001; telephone number: (703) 308-0166; e-mail address: hall.katie@epa.gov.

SUPPLEMENTARY INFORMATION:

I. General Information

A. Does this Action Apply to Me?

This action is directed to the public in general. This action may, however, be of interest to persons who are or may be required to conduct testing of chemical substances under the FIFRA or the FFDCA; environmental, human health, and agricultural advocates; pesticides users; and members of the public interested in the use of pesticides. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0210. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell Street, Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. To access RED documents and RED fact sheets electronically, go directly to the REDs table on EPA's Office of Pesticide Programs Home Page, at http://www.epa.gov/pesticides/reregistration/status.htm.

An electronic version of the public docket is available through EPA's electronic public docket and comment system, EPA Dockets. You may use EPA Dockets at http://www.epa.gov/edocket/ to view previously submitted public comments, access the index listing of the contents of the official public docket, and to access those documents in the public docket that are available electronically. Once in the system, select “search,” then key in the appropriate docket ID number.

Certain types of information will not be placed in EPA's Dockets. Information claimed as CBI and other information whose disclosure is restricted by statute, which is not included in the official public docket, will not be available for public viewing in EPA's electronic public docket.EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

II. Background

A. What Action is the Agency Taking?

The Agency has issued a RED for the pesticide benfluralin. Benfluralin is a pre-emergent dinitroaniline herbicide used to control weeds in turf and ornamental plants, lettuce, alfalfa, clover, birdsfoot trefoil, nonbearing fruit and nut trees, nonbearing berries, and nonbearing vineyards. Most of the benfluralin used is applied to turf. Under FIFRA, as amended in 1988, EPA is conducting a reregistration program to reevaluate existing pesticides to make sure they meet current scientific and regulatory standards. The data base to support the reregistration of benfluralin is substantially complete, and its risks have been mitigated so that it will not pose unreasonable risks to people or the environment when used according to its approved labeling. In addition, EPA is reevaluating existing pesticides and reassessing tolerances under FQPA of 1996. The benfluralin tolerances have been found to meet the FQPA safety standard.

Through the Agency's public participation process, EPA worked extensively with stakeholders and the public to reach the regulatory decisions for benfluralin. During the public comment period on the risk assessments, which closed on April 26, 2004, the Agency received comments from two commentors, Dow Agrosciences and the U.S. Fish and Wildlife Service. An individual response to these comments is being prepared by EPA and will be made available in the public docket. Because so few comments were received in the earlier comment period, the Agency does not anticipate significant interest from stakeholders on the RED for benfluralin. Therefore, EPA is not having a comment period on this document.

B. What is the Agency's Authority for Taking this Action?

The legal authority for these REDs falls under FIFRA, as amended in 1988 and 1996. Section 4(g)(2)(A) of FIFRA directs that, after submission of all data concerning a pesticide active ingredient, “the Administrator shall determine whether pesticides containing such active ingredient are eligible for reregistration, ”before calling in product specific data on individual end-use products, and either reregistering products or taking “other appropriate regulatory action.”

List of Subjects

Environmental protection, Chemicals, Pesticides and pests.

Dated: August 18, 2004.
Debra Edwards,
Director, Special Review and Reregistration Division, Office of Pesticide Programs.

[FR Doc. 04-20045 Filed 9-1-04; 8:45 am]

BILLING CODE 6560-50-S